SOCIAL SECURITY ADMINISTRATION

Request for Public Suggestions on Ways To Support Youth With Disabilities in Transition to Adulthood

AGENCY: Social Security Administration (SSA).

ACTION: Notice with request for suggestions.

SUMMARY: We are requesting suggestions from the public on ways to support youth with disabilities that would help them in the transition to adulthood.

DATES: The comment period ends February 26, 2002.

ADDRESSES: Comments should be submitted:

• In writing, to the Office of Employment Support Programs, Social Security Administration, 6401 Security Boulevard, 107 Altmeyer Building, Baltimore, MD 21235-6401;

• By E-mail to TTWWIIA@ssa.gov; or

• By telefax to (410) 966-1278.

• By web site entry to SSA's Public Policy Information Site at http://policy.ssa.gov. Click on public comment. Click on open discussions. The direct link is http://policy.ssa.gov/si/ttwwiia.nsf.

FOR FURTHER INFORMATION CONTACT: Christa Bucks Camacho, Social Security Administration, Office of Employment Support Programs, 6401 Security Boulevard, 107 Altmeyer Building, Baltimore, MD 21235-6401; Phone: (410) 966-5147 or TTY 1 (800) 988-5906; or through E-mail to christa.bucks@ssa.gov.

SUPPLEMENTARY INFORMATION: We are publishing final rules for the Ticket to Work and Self-Sufficiency program (Ticket to Work program) in today's Federal Register. Under this program, qualified disability beneficiaries will be issued tickets they can use to access vocational rehabilitation services, employment services and other support services from approved providers. SSA will pay the service providers if the beneficiaries achieve certain outcomes.

In the final rules for the Ticket to Work program, we have decided not to issue tickets to those beneficiaries under age 18 or to those who have attained age 18, but for whom we have not yet conducted a redetermination of their eligibility under the disability standard for adults. We are interested in exploring various approaches to assist youth with disabilities who receive payments from us under one of the programs we administer. Therefore, we are seeking suggestions from the public to help us develop new programs that will assist these beneficiaries make the transition to independence, further education, and enhance careers in the workforce and that will complement the Ticket to Work program.

During the comment period for the proposed rules for the Ticket to Work program, we received suggestions from the public on ways to provide alternative tools to assist young beneficiaries. We invite the public to submit additional opinions and suggestions on alternative options to support the transition of young beneficiaries to adulthood. To assist you in preparing your response, we offer the following questions as a guide. However, we welcome any suggestions you may have.

• What approaches could benefit these beneficiaries in preparing for future employment?

• What types of services might be useful to help these beneficiaries?

• The successful completion of a transition plan at the high school or post-secondary level is an essential part of preparing students with disabilities for independence as adults. What events or steps in the transition process could we establish for these beneficiaries that would demonstrate progress through their plan towards independence, education, and employment?

• What incentives would be appropriate to encourage providers, educational facilities, employers and others to provide assistance toward successful employment outcomes?

• Would it be appropriate and useful to expand the Ticket age limits to include disability beneficiaries 16 and 17 years old? How would the Ticket program assist these individuals?

Dated: December 11, 2001.
Jo Anne B. Barnhart,
Commissioner of Social Security.

[FR Doc. 01-31568 Filed 12-27-01; 8:45 am]

BILLING CODE 4191-02-P